DEPARTMENT OF DEFENSE

Office of the Secretary

[Docket ID: DoD-2014-OS-0028]

Privacy Act of 1974; System of Records

AGENCY: United States Central Command, DoD.

ACTION: Notice to amend a System of Records.

SUMMARY: The United States Central Command is proposing to amend a system of records notice in its existing inventory of records systems subject to the Privacy Act of 1974, as amended. The system is entitled FCENTCOM 01, Combined Mild Traumatic Brain Injury Registry and is being amended to reflect the new records retention and disposal.

DATES: Comments will be accepted on or before April 9, 2014. This proposed action will be effective on the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jacqueline Scott, USCENTCOM CCJ6-RDF, 7115 South Boundary Blvd., MacDill AFB, FL 33621-5101 or at (813) 529-6670.

SUPPLEMENTARY INFORMATION: The United States Central Command systems of records notices subject to the Privacy Act of 1974 (5 U.S.C. 552a), as amended, have been published in the Federal Register and are available from the address in FOR FURTHER INFORMATION CONTACT or http://dpclo.defense.gov/. The specific changes to the records system being amended are set forth in this notice. The proposed amendment is not within the purview of subsection (r) of the Privacy Act of 1974 (5 U.S.C. 552a), as amended, which requires the submission of a new or altered system report.

Dated: March 4, 2014.
Aaron Siegel,
Alternate OSD Federal Register Liaison Officer, Department of Defense.

FCENTCOM 01

System name:

Combined Mild Traumatic Brain Injury Registry (January 26, 2012, 77 FR 4025)

* * * * *

Retention and Disposal:

Delete entry and replace with “PERMANENT. Transfer paper records to the National Archives 25 years after declassification review. Transfer physical custody of electronic records to the National Archives for pre-accessioning 5 years after cutoff. Transfer legal custody of electronic records to the National Archives 25 years after cutoff and declassification review.”

* * * * *

[FR Doc. 2014-05019 Filed 3-7-14; 8:45 am]

BILLING CODE 5001-06-P